DEPARTMENT OF EDUCATION

List of Approved “Ability-to-Benefit” (ATB) Tests and Passing Scores

AGENCY: Office of Postsecondary Education, Department of Education.

ACTION: Notice.

SUMMARY: This notice provides an update to the list of ATB tests approved by the Secretary.

FOR FURTHER INFORMATION CONTACT: Aaron Washington, U.S. Department of Education, 400 Maryland Avenue SW, Room 294-12, Washington, DC 20202. Telephone: (202) 453-7241. Email: Aaron.Washington@ed.gov.

If you use a telecommunications device for the deaf (TDD) or a text telephone (TTY), call the Federal Relay Service (FRS), toll free, at 1-800-877-8339.

SUPPLEMENTARY INFORMATION: In order for a student who does not have a high school diploma or its recognized equivalent to be eligible for title IV, program assistance and who first enrolled in any title IV eligible postsecondary program on or after July 1, 2012, the student must successfully complete one of the ATB alternatives, including passing an ATB test as approved by the Secretary, and be enrolled in an eligible career pathway program pursuant to section 484(d)(1) of the Higher Education Act of 1965, as amended (HEA).

Students who first enrolled in any title IV eligible postsecondary program prior to July 1, 2012 may establish eligibility for title IV, program assistance using any of the following ATB alternatives—

• Passing an independently administered ATB test approved by the Secretary;

• Completing at least six credit hours, or the equivalent coursework (225 clock hours), that are applicable toward a degree or certificate offered by the postsecondary institution; or

• Completing a State process approved by the Secretary.

A student who does not have a high school diploma or its recognized equivalent, whose native language is not English and is not fluent in English, and who is enrolled in a program that is taught in the student's native language, must take an approved test developed in the student's native language pursuant to 34 CFR 668.153(a)(1).

A student who does not have a high school diploma or its recognized equivalent, whose native language is not English and is not fluent in English, and who is enrolled in a program that is taught in English, must take an ATB test designed to measure the English language competence of a non-native speaker. Students who are enrolled in such a program that has an “English as a Second Language” (ESL) component and who are enrolled in the ESL component, must take an approved ATB test specifically for a student whose native language is not English and who is not fluent in English. Students who are enrolled in an ESL program only also must take an approved ATB test specifically for a student whose native language is not English and who is not fluent in English, pursuant to 34 CFR 668.153(a)(2).

A student who does not have a high school diploma or its recognized equivalent, and whose native language is not English and is not fluent in English, who is enrolled in a program that is taught in English without an ESL component, or the student does not enroll in the ESL component of the program, must take an ATB test in English that assesses secondary school verbal and quantitative skills, pursuant to 34 CFR 668.153(a)(3).

List of approved tests and passing scores: The Secretary lists below all approved ATB tests and their passing scores. The list is updated to reflect revisions to the list of approved ATB tests and passing scores that was published in the Federal Register on May 19, 2006 (97 FR 29135) and updates to the list that were made through an Electronic Announcement dated June 24, 2015, at https://ifap.ed.gov/electronic-announcements/06-24-2015-general-subject-approved-ability-benefit-atb-tests.

ATB test | Passing scores | Test publisher contact information
Wonderlic Basic Skills Test (WBST) Verbal Forms VS-1 & VS-2, Quantitative Forms QS-1 & QS-2 Paper and pencil versions and online versions. Effective Date: July 1, 2015 | Verbal (200) Quantitative (210) | Wonderlic, Inc., 400 Lakeview Parkway, Suite 200, Vernon Hills, IL 60061. Contact: Chris Young. Telephone: (847) 247-2544. Fax: (847) 680-9492.
Spanish Wonderlic Basic Skills Test (Spanish WBST) Verbal Forms VS-1 & VS-2, Quantitative Forms QS-1 & QS-2 Paper and pencil versions and online versions. Effective Date: July 1, 2015 | Verbal (200), Quantitative (200)
Combined English Language Skills Assessment (CELSA),* Forms 1 and 2 Effective Date: November 1, 2002 | CELSA Form 1 (97), CELSA Form 2 (97) | Association of Classroom Teacher Testers (ACCT), 1187 Coast Village Road, Suite 1, #378, Montecito, CA 93108. Contact: Pablo Buckelew. Telephone: (805) 965-5704. Fax: (805) 965-5807.
**ACCUPLACER Computer-adaptive tests and COMPANION ACCUPLACER Forms J and K: Reading Test, Writing Test, and Arithmetic Test | Reading Test (233),** Writing Test (235),** Arithmetic Test (230) ** | The College Board, 250 Vesey Street, New York, NY 10281. Contact: ACCUPLACER Program. Telephone: (800) 607-5223. Fax: (212) 253-4061.
** Texas Success Initiative (TSI) Assessment—Computer-adaptive tests and COMPANION TSI Forms T and V: Reading Placement Test, Writing Placement Test, Mathematics Placement Test | Reading Placement Test (336), Writing Placement Test (345), Mathematics Placement Test (326)
* Note: As provided in 34 CFR 668.153(a)(2), the CELSA test is approved as the additional ATB English language proficiency test that must be taken by students whose native language is not English and who are not fluent in English if the academic program includes an ESL component.
** The ACCUPLACER test has been redesigned since it was listed as an approved test in the 2006 notice. TSI is a new addition to the list of approved ATB tests. These tests are provisionally approved. To move from provisional approval to full approval the test publisher must submit additional information as noted in the test agreement signed by the test publisher and the Department, no later than two years from the effective date of the agreement 6/26/2020. In the event the Department denies full approval, we will provide notice of this through publication in the Federal Register, pursuant to 34 CFR 668.150(c)(3).

List of ATB tests that are no longer approved: The following six tests appeared on the list of approved tests published in the 2006 Federal Register notice, but are not on the current list of tests that may be used for the purpose of determining a student's eligibility for title IV, program assistance. Please note the effective dates for each test.

1. Test: The ACT Career Programs Assessment test (CPAt)—Forms B and C.

Effective Dates: November 1, 2002 through June 30, 2015.

Passing Scores: Language Usage (42), Reading (43), and Numerical (41).

Publisher: ACT, Inc., 500 ACT Drive, P.O. Box 168, Iowa City, IA 52243-0168.

Contact: Joanna Higgins-Freese; Telephone: (319) 337-1618.

2. Test: The ACT WorkKeys test—Reading for Information—Forms A01AA, A02AA, C01AA, & D10AA; Applied Mathematic—Forms A01BB, A02BB, C01BB, & D01BB.

Effective Dates: May 19, 2006 through June 30, 2015.

Passing Scores: Reading for Information Forms A01AA (76), A02AA (75), C01AA (77), & D10AA (77); Applied Mathematics Forms A01BB (73), A02BB (74), C01BB (73), & D01BB (73).

Publisher: ACT, Inc., 500 ACT Drive, P.O. Box 168, Iowa City, IA 52243-0168.

Contact: Joanna Higgins-Freese; Telephone: (319) 337-1618.

3. Test: The College Board DTLS and DTMS Forms M-K-3KDT and M-K-3LDT tests.

Effective Dates: November 1, 2002 through April 27, 2007.

Passing Scores: Reading Comprehension (108), Sentence Structure (9), Conventions of Written English (309), and Arithmetic (506).

Publisher: The College Board, 250 Vesey Street, New York, New York 10281.

Contact: ACCUPLACER Program; Telephone: (800) 607-5223, Fax (212) 253-4061.

4. Test: ASSET: Basic Skills Test (Reading, Writing, and Numerical)—Forms B2, C2, D2, and E2.

Effective Dates: November 1, 2002 through October 31, 2015.

Passing Scores: Reading (35), Writing (35), and Numerical (33).

Publisher: ACT, Inc., 500 ACT Drive, P.O. Box 168, Iowa City, IA 52243-0168.

Contact: Joanna Higgins-Freese; Telephone: (319)-337-1618.

5. Test: COMPASS Subtests—Prealgebra/Numerical Skills.

Passing Scores: Prealgebra/Numerical (25), Reading (62), and Writing (32).

Effective Dates: November 1, 2002 through October 31, 2015.

Publisher: ACT, Inc., 500 ACT Drive, P.O. Box 168, Iowa City, IA 52243-0168.

Contact: Joanna Higgins-Freese; Telephone: (319) 337-1618.

6. Test: COMPASS ESL.

Passing Scores: Grammar/Usage (64), Reading (70), and Listening (70).

Effective Dates: May 19, 2006 through October 31, 2015.

Publisher: ACT, Inc., 500 ACT Drive, P.O. Box 168, Iowa City, IA 52243-0168.

Contact: Joanna Higgins-Freese; Telephone: (319) 337-1618.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 1091(d).

Robert L. King,
Assistant Secretary for the Office of Postsecondary Education.

[FR Doc. 2020-24795 Filed 11-6-20; 8:45 am]

BILLING CODE 4000-01-P